Proclamation 10080 of September 18, 2020

National Gang Violence Prevention Week, 2020

By the President of the United States of America

A Proclamation

During National Gang Violence Prevention Week, we reaffirm our unwavering commitment to ensuring gang members are removed from our streets and prosecuted for their crimes, so all Americans can live and thrive in a safe and peaceful environment. Our Nation's law enforcement officials are our first line of defense against gang violence, and we continue to express our eternal gratitude for their selfless devotion to upholding the rule of law and keeping us safe.

Street gangs pose grave threats to the safety of communities and the well-being of children, teenagers, and families. Gangs aim to perpetuate the trafficking and smuggling of humans, weapons, and drugs. They destroy public and private property, corrupt America's youth, and ruin businesses. To break the pernicious cycle of gang violence and crime, my Administration has enacted comprehensive solutions focused on prevention, intervention, and suppression. In July, we launched Operation LeGend—a sustained and coordinated law enforcement surge in communities across the Nation. Operation LeGend is named in honor of 4-year-old LeGend Taliferro, who was shot and killed while he peacefully slept early in the morning of June 29 in Kansas City, Missouri. This unfathomable tragedy is one of many examples of the scourge gangs pose to our youth and to our communities. The eponymous operation spans every Federal law enforcement agency and is being executed in conjunction with State and local officials. Our national effort to fight violent crime will protect our Nation's children and bring violent criminals to justice.

Every child in America should enjoy a youth without any risk of falling victim to violence, drugs, or other harmful criminal acts that can destroy their future. And every parent should see their children grow into the people that God intended for them to become. It is the responsibility of all public leaders to do everything in our power to make this possible. As President, my highest obligation is to protect our Nation's citizens, which is why we are relentlessly working to restore law and order throughout our country.

In the past year, the Department of Justice has prosecuted thousands of violent gang members, including hundreds of leaders, members, and associates of transnational criminal organizations such as MS-13 and the 18th Street Gang. The spread of these vicious groups, and the human suffering they bring, is accomplished through a sophisticated and well-organized campaign of violence meant to intimidate neighborhoods and boost illegal money-making activities. In response, my Administration has taken strong actions to secure our borders, shut down smuggling networks, and expedite the removal of illegal immigrants associated with these transnational criminal networks. Additionally, the Attorney General's Joint Task Force Vulcan has taken steps to disrupt, dismantle, and ultimately destroy MS-13, including strategically targeting the highest ranking leaders and bringing terrorism charges against the organization. Through these initiatives, and working with our foreign law enforcement partners in Operation Regional Shield, we have reduced the ability of transnational criminal organizations to commit murders and other violent crimes, as well as hindered their funding by stopping crimes such as robbery, extortion, drug and gun smuggling, and despicable acts of human trafficking.

Under my Administration, the Department of Justice has revitalized the Project Safe Neighborhoods program, which provides crucial support to local law enforcement agencies across the country to combat gang violence and prevent violent crime. This community-based initiative targets the most violent criminals in the most dangerous areas of our country and has successfully delivered justice by getting them off the streets and behind bars.

None of these significant strides would be possible without the dedicated law enforcement officials of our great Nation. In light of the growing, radical movement attacking the police, I take this opportunity to once again reemphasize my unending support for our Nation's heroes in blue. We are forever grateful for the incredible men and women of law enforcement who risk their lives every single day to combat crime and mayhem.

As a Nation, we must band together in the fight against criminal gangs that threaten our democracy and terrorize our children, families, and communities. National Gang Violence Prevention Week is a time to reflect on the honorable service of our heroes in law enforcement and dedicate ourselves to doing all that we can to prevent criminal gangs from infiltrating our communities with violence and crime. We will not rest until we have removed the scourge of gangs and transnational criminal organizations from our country.

NOW, THEREFORE, I, DONALD J. TRUMP, President of the United States of America, by virtue of the authority vested in me by the Constitution and the laws of the United States, do hereby proclaim the week of September 20 through September 26, 2020, as “National Gang Violence Prevention Week.” I call upon the people of the United States to observe this week with appropriate programs, ceremonies, and activities.

IN WITNESS WHEREOF, I have hereunto set my hand this eighteenth day of September, in the year of our Lord two thousand twenty, and of the Independence of the United States of America the two hundred and forty-fifth.

[FR Doc. 2020-21381

Filed 9-24-20; 8:45 am]

Billing code 3295-F0-P